POSTAL RATE COMMISSION

Briefing on New Postal Service Rollforward Model

AGENCY: Postal Rate Commission.

ACTION: Notice of public briefing.

SUMMARY: The Postal Service will present a briefing and demonstration of its new PC-based rollforward model software on Tuesday, November 16, 2004 at 10 a.m. in the Commission's hearing room. The briefing will address the history of the Postal Service's rollforward model, reasons why the new version was developed, and components of the new model. A question-and-answer session will follow. The meeting is open to the public.

DATES: Tuesday, November 16, 2004.

ADDRESSES: Postal Rate Commission (hearing room), 1333 H Street NW., Washington, DC 20268-0001, Suite 300.

FOR FURTHER INFORMATION CONTACT: Stephen L. Sharfman, General Counsel, 202-789-6818.

SUPPLEMENTARY INFORMATION:

Regulatory History

69 FR 7530, February 17, 2004.

Earlier this year, the Postal Rate Commission gave a public demonstration of the new computer software model it has developed to handle the cost model/rollforward function in rate cases. The Postal Service has likewise been involved in updating its rollforward software. For the Postal Service, this would mean moving from a mainframe platform to a PC-based platform. This presentation will be quite similar in content and format to that provided by the Commission. As with the Commission's new software, the primary purpose of the Postal Service's new model is not to change the substance of the rollforward methodology, but rather to perform the same computational operations and achieve the same results using a different computer platform. The demonstration will use the rollforward model from the last omnibus rate case to illustrate how the model works.

The Postal Service anticipates having a version of the model available on the Commission's Web site, http://www.prc.gov, so that interested observers can load the model and follow along on their own computers. There are a limited number of computer outlets in the hearing room which will be available for use during the presentation. Interested persons should contact Steven W. Williams at 202-789-6842.

Steven W. Williams,
Secretary.

[FR Doc. 04-24943 Filed 11-8-04; 8:45 am]

BILLING CODE 7710-FW-P